NEIGHBORHOOD REINVESTMENT CORPORATION

Sunshine Act Meetings; Special Audit Committee Meeting

TIME and DATE: 11:00 a.m., Thursday, August 3, 2023.

PLACE: Via ZOOM.

STATUS: Parts of this meeting will be open to the public. The rest of the meeting will be closed to the public.

MATTERS TO BE CONSIDERED: Audit Committee Meeting.

The General Counsel of the Corporation has certified that in his opinion, one or more of the exemptions set forth in the Government in the Sunshine Act, 5 U.S.C. 552b (c)(2) and (4) permit closure of the following portion(s) of this meeting:

• Executive Session

Agenda

I. Call to Order

II. Approval Government in Sunshine Act Notice to Waiver for a Meeting of the Audit Committee of the Board of Directors

III. Sunshine Act Approval of Executive (Closed) Session; Executive (Closed) Session

IV. External Auditor Discussion/Review

V. Discussion with Chief Audit Executive

VI. Adjournment

CONTACT PERSON FOR MORE INFORMATION: Lakeyia Thompson, Special Assistant, (202) 524-9940; lthompson@nw.org.

Lakeyia Thompson,
Special Assistant.

[FR Doc. 2023-16616 Filed 7-31-23; 4:15 pm]

BILLING CODE 7570-02-P